DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one entity that has been placed on OFAC's Specially Designated Nationals and Blocked Persons List based on OFAC's determination that one or more applicable legal criteria were satisfied. All property and interests in property subject to U.S. jurisdiction of this entity is blocked, and U.S. persons are generally prohibited from engaging in transactions with it. Additionally, OFAC is publishing updates to the identifying information of one entity currently included on the SDN List. All property and interests in property subject to U.S. jurisdiction of this entity remains blocked, and U.S. persons are generally prohibited from engaging in transactions with it.

DATES: See SUPPLEMENTARY INFORMATION section for applicable date(s).

FOR FURTHER INFORMATION CONTACT: OFAC: Andrea M. Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

A. On May 6, 2022, OFAC determined that the property and interests in property subject to U.S. jurisdiction of the following entity is blocked under the relevant sanctions authority listed below.

Entity

BILLING CODE 4810-AL-P

B. On May 6, 2022, OFAC updated the entry on the SDN List for the following entity, whose property and interests in property subject to U.S. jurisdiction continues to be blocked under E.O. 13722 of March 15, 2016, “Blocking Property of the Government of North Korea and the Workers' Party of Korea, and Prohibiting Certain Transactions With Respect to North Korea.”.

Entity

Dated: May 6, 2022.
Andrea M. Gacki,
Director, Office of Foreign Assets Control, U.S. Department of the Treasury.

[FR Doc. 2022-10087 Filed 5-10-22; 8:45 am]

BILLING CODE 4810-AL-C